DEPARTMENT OF COMMERCE

National Oceanic and Atmospheric Administration

RIN 0648-XE711

Mid-Atlantic Fishery Management Council (MAFMC); Public Meetings

AGENCY: National Marine Fisheries Service (NMFS), National Oceanic and Atmospheric Administration (NOAA), Commerce.

ACTION: Notice of public meeting.

SUMMARY: The Mid-Atlantic Fishery Management Council (Council) will hold a webinar-based meeting with its for-hire advisory panel members and the public to gather input regarding an upcoming Council Omnibus Framework action that could require electronic reporting of for-hire Vessel Trip Reports (VTRs) starting January 1, 2017 for all Council-managed fisheries that require for-hire VTR reporting.

DATES: The meeting will be held Monday, July 18, 2016 from 6 p.m.-8 p.m.

ADDRESSES: The meeting will be held via webinar (http://mafmc.adobeconnect.com/evtr/) with a telephone audio connection (provided when connecting).

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org also has details on the proposed agenda, webinar access, and briefing materials.

SUPPLEMENTARY INFORMATION: The Council is considering electronic reporting of for-hire Vessel Trip Reports (VTRs) starting January 1, 2017. This action would change the method of transmitting VTRs—the required data elements would not change. VTRs would be required to be completed before arriving at the dock, and electronic reports would have to be submitted within 24 hours after docking. This meeting will gather input from the Council's for-hire advisory panel members and the public in preparation for Council action at the August 2016 meeting in Virginia Beach, VA (http://www.mafmc.org/meetings/).

Special Accommodations

These meetings are physically accessible to people with disabilities. Requests for sign language interpretation or other auxiliary aid should be directed to M. Jan Saunders, (302) 526-5251, at least 5 days prior to the meeting date.

Dated: June 28, 2016.
Tracey L. Thompson,
Acting Deputy Director, Office of Sustainable Fisheries, National Marine Fisheries Service.

[FR Doc. 2016-15768 Filed 7-1-16; 8:45 am]

BILLING CODE 3510-22-P